DEPARTMENT OF HEALTH AND HUMAN SERVICES

Health Resources and Services Administration

National Advisory Committee on Rural Health and Human Services

AGENCY: Health Resources and Services Administration (HRSA), Department of Health and Human Services (HHS).

ACTION: Notice.

SUMMARY: In accordance with the Federal Advisory Committee Act, this notice announces that the Secretary's National Advisory Committee on Rural Health and Human Services (NACRHHS) has scheduled a public meeting. Information about NACRHHS and the agenda for this meeting can be found on the NACRHHS website at https://www.hrsa.gov/advisory-committees/rural-health/index.html.

DATES: March 2, 2020, 8:30 a.m.-5:15 p.m. Eastern Time (ET); March 3, 2020, 8:30 a.m.-5:15 p.m. ET; and March 4, 2020, 8:30 a.m.-11:15 a.m. ET.

ADDRESSES: The address for the meeting is the Center for Disease Control and Prevention (CDC) Global Communications Center (GCC) Auditorium B3, 1600 Clifton Road, Atlanta, GA 30329.

On the morning of March 3, 2020, NACRHHS will break into subcommittees. One subcommittee will travel to Mercer School of Medicine, 1550 College St., Macon, GA 31207. The other subcommittee will travel to Health Services Center, 608 Martin Luther King Drive, Hobson City, AL 36201. In the afternoon, at approximately 4:00 p.m. ET., NACRHHS will reconvene at the CDC GCC.

FOR FURTHER INFORMATION CONTACT: Steven Hirsch, Administrative Coordinator at the Federal Office of Rural Health Policy, HRSA, 5600 Fishers Lane, 17W59D, Rockville, Maryland 20857; 301-443-7322; or shirsch@hrsa.gov.

SUPPLEMENTARY INFORMATION: NACRHHS provides advice and recommendations to the Secretary of HHS (Secretary) on policy, program development, and other matters of significance concerning both rural health and rural human services.

During the March 2-4, 2020, meeting, NACRHHS will examine two topics: Maternal and Obstetric Care Challenges in Rural America and HIV Prevention and Treatment Challenges in Rural America. Refer to the NACRHHS website for any updated information concerning the meeting.

Members of the public will have the opportunity to provide comments. Public participants may submit written statements in advance of the scheduled meeting. Oral comments will be honored in the order they are requested and may be limited as time allows. Requests to submit a written statement or make oral comments to NACRHHS should be sent to Steven Hirsch, using the contact information above, at least 3 business days prior to the meeting.

Individuals who plan to attend and need special assistance or another reasonable accommodation should notify Steven Hirsch at the address and phone number listed above at least 10 business days prior to the meeting. Since the meeting at the CDC occurs in a federal government building, attendees must go through a security check to enter the building. Non-U.S. Citizen attendees must notify Steven Hirsch of their planned attendance at least 20 business days prior to the meeting in order to facilitate their entry into the building. All attendees are required to present government-issued identification prior to entry.

Maria G. Button,
Director, Division of the Executive Secretariat.

[FR Doc. 2020-01810 Filed 1-30-20; 8:45 am]

BILLING CODE 4165-15-P